DEPARTMENT OF THE INTERIOR

Bureau of Land Management

[CA-310-0777-XX]

Notice of Public Meeting: Northeast California Resource Advisory Council

AGENCY: Bureau of Land Management, Interior.

ACTION: Notice of public meeting.

SUMMARY: In accordance with the Federal Land Policy and Management Act of 1976 (FLPMA), and the Federal Advisory Committee Act of 1972 (FACA), the U.S. Department of the Interior, Bureau of Land Management (BLM) Northeast California Resource Advisory Council will meet as indicated below.

DATES: The meeting will be held Thursday and Friday, May 15 and 16, 2008, in the Conference Room of the BLM Alturas Field Office, 708 W. 12th St., Alturas, California. On May 15, the members convene at the Alturas Field Office at 10 a.m. and depart immediately for a field tour. Members of the public are welcome. They must provide their own transportation in a high clearance four-wheel-drive vehicle and their own lunch. On May 16, the meeting runs from 8 a.m. to 3 p.m. Time for public comment is reserved at 11 a.m.

FOR FURTHER INFORMATION CONTACT: Tim Burke, BLM Alturas Field Office manager, (530) 233-4666; or BLM Public Affairs Officer Joseph J. Fontana, (530) 252-5332.

SUPPLEMENTARY INFORMATION: The 15-member council advises the Secretary of the Interior, through the BLM, on a variety of planning and management issues associated with public land management in Northeast California and the northwest corner of Nevada. At this meeting, agenda topics will include a status report on proposals for wind energy development and updates on the sage steppe restoration management plan, sage-grouse conservation, wild horse and burro management, and the Modoc Resource Academy. Members also will hear status reports from the Alturas, Eagle Land and Surprise field offices. All meetings are open to the public. Members of the public may present written comments to the council. Each formal council meeting will have time allocated for public comments. Depending on the number of persons wishing to speak, and the time available, the time for individual comments may be limited. Members of the public are welcome on field tours, but they must provide their own transportation and lunch. Individuals who plan to attend and need special assistance, such as sign language interpretation and other reasonable accommodations, should contact the BLM as provided above.

Dated: March 17, 2008.
Joseph J. Fontana,
Public Affairs Officer.

[FR Doc. E8-5973 Filed 3-24-08; 8:45 am]

BILLING CODE 4310-40-P